DEPARTMENT OF ENERGY

Notice of Orders Issued Under Section 3 of the Natural Gas Act During February 2018

| FE Docket Nos.
Fourchon LNG LLC | 17-105-LNG
Prometheus Energy Group, Inc | 18-24-LNG
Tranasia Global LNG LLC | 18-23-LNG
Socco, Inc. | 18-25-NG
NJR Energy Services Company | 18-28-NG
NFEnergia LLC | 18-29-LNG
National Fuel Resources, Inc. | 18-31-NG
Sequent Energy Management, L.P. | 18-34-NG
Merrill Lynch Commodities Canada, ULC | 18-33-NG
Golden Pass Products LLC | 12-156-LNG
Magnolia LNG, LLC | 13-132-LNG

AGENCY: Office of Fossil Energy, Department of Energy.

ACTION: Notice of orders.

SUMMARY: The Office of Fossil Energy (FE) of the Department of Energy gives notice that during March 2018, it issued orders granting authority to import and export natural gas, and to import and export liquefied natural gas (LNG), and an opinion and order granting motion for leave to answer request for rehearing and denying request for rehearing. These orders are summarized in the attached appendix and may be found on the FE website at https://www.energy.gov/fe/downloads/listing-doefe-authorizationsorders-issued-2018-1. They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on April 18, 2018.
Amy Sweeney,
Director, Division of Natural Gas Regulation.

Appendix

DOE/FE Orders Granting Import/Export Authorizations
4162 | 03/11/18 | 17-105-LNG | Fourchon LNG LLC | Order 4162 granting Long-term, Multi-contract authority to export LNG by vessel from the proposed Fourchon LNG Facility in LaFourche Parish, Louisiana, to Free Trade Agreement Nations.
4163 | 03/12/18 | 18-24-LNG | Prometheus Energy Group, Inc | Order 4163 granting blanket authority to import and export LNG from/to Canada/Mexico by truck.
4164 | 03/14/18 | 18-23-LNG | TranAsia Global LNG LLC | Order 4164 granting blanket authority to export LNG to Canada/Mexico by truck.
4165 | 03/14/18 | 18-25-NG | Socco, Inc | Order 4165 granting blanket authority to import natural gas from Canada.
4166 | 03/20/18 | 18-28-NG | NJR Energy Services Company | Order 4166 granting blanket authority to import/export natural gas from/to Canada.
4167 | 03/26/18 | 18-29-LNG | NFEnergia LLC | Order 4155 granting blanket authority to import LNG from various international sources by vessel.
4168 | 03/30/18 | 18-31-NG | National Fuel Resources, Inc | Order 4168 granting blanket authority to import/export natural gas from/to Canada.
4169 | 03/30/18 | 18-34-NG | Sequent Energy Management, L.P | Order 4169 granting blanket authority to import/export natural gas from/to Canada.
4170 | 03/30/18 | 18-33-NG | Merrill Lynch Commodities Canada, ULC | Order 4170 granting blanket authority to export natural gas to Canada.
3978-A | 03/30/18 | 12-156-LNG | Golden Pass Products LLC | Opinion and Order 3978-A granting Motion for Leave to Answer Request for Rehearing and Denying Request for Rehearing.
3909-A | 03/30/18 | 13-132-LNG | Magnolia LNG, LLC | Opinion and Order 3978-A granting Motion for Leave to Answer Request for Rehearing and Denying Request for Rehearing.

[FR Doc. 2018-08433 Filed 4-23-18; 8:45 am]

BILLING CODE 6450-01-P